DEPARTMENT OF HOMELAND SECURITY

Coast Guard

[USCG-2005-21653]

Towing Safety Advisory Committee

AGENCY: Coast Guard, DHS.

ACTION: Notice of meeting.

SUMMARY: The Licensing Working Group of the Towing Safety Advisory Committee (TSAC) will meet to discuss matters relating to specific issues of towing safety. The meetings will be open to the public.

DATES: The Licensing Working Group will meet on Thursday, July 14, 2005 from 8:30 a.m. to 3 p.m (local). The meeting may close early if all business is finished. Written material and requests to make oral presentations should reach the Coast Guard on or before July 7, 2005. Requests to have a copy of your material distributed to each member of the Working Group should reach the Coast Guard on or before July 7, 2005.

ADDRESSES: The Working Group will meet at the offices of Buffalo Marine Service, Inc., 8201 E. Erath, Houston, TX 77012. Please bring a government-issued ID with photo (e.g., driver's license). Send written material and requests to make oral presentations to Mr. Gerald Miante, Commandant (G-MSO-1), U.S. Coast Guard Headquarters, 2100 Second Street SW., Washington, DC 20593-0001. This notice and related documents are available on the Internet at http://dms.dot.gov under the docket number USCG-2005-21653.

FOR FURTHER INFORMATION CONTACT: Mr. Gerald Miante, Assistant Executive Director of TSAC, telephone 202-267-0214, fax 202-267-4570, or e-mail gmiante@comdt.uscg.mil. If you plan to attend the meeting, please notify both Mr. Miante and Mr. Chuck King of Buffalo Marine, telephone 713-923-5571 or e-mail chuck@buffalomarine.com by July 7, 2005.

SUPPLEMENTARY INFORMATION: Notice of these meetings is given under the Federal Advisory Committee Act, 5 U.S.C. App. 2 (Pub. L. 92-463, 86 Stat. 770, as amended).

Agenda of Working Group Meeting

The agenda for the Licensing Working Group tentatively includes the following items:

(1) Consideration of the petition for rulemaking by Delta Towing that a master of steam or motor vessels of not more than 200 GRT with three years experience obtain the license as mate of towing vessels.

(2) Consideration of the necessary training, assessment and experience that should be required of such individuals.

(3) Identification of any other issues related to implementation of the towing officer licensing rules that require amendment or clarification at this time.

Procedural

The meeting is open to the public. Please note that the meeting may close early if all business is finished. At the Chair's discretion, members of the public may make oral presentations during the meeting. If you would like to make an oral presentation at the meeting, please notify the Assistant Executive Director (as provided above in FOR FURTHER INFORMATION CONTACT) no later than July 7, 2005. Written material for distribution at the meeting should reach the Coast Guard no later than July 7, 2005.

Information on Services for Individuals with Disabilities:For information on facilities or services for individuals with disabilities or to request special assistance at the meeting, contact Mr. Miante at the number listed in FOR FURTHER INFORMATION CONTACT as soon as possible.

Dated: June 22, 2005.
Howard L. Hime,
Acting Director of Standards, Marine Safety, Security and Environmental Protection.

[FR Doc. 05-13073 Filed 6-30-05; 8:45 am]

BILLING CODE 4910-15-P